NUCLEAR REGULATORY COMMISSION

[NRC-2013-0107; Docket No. 52-016-COL]

Staff Requirements—SECY-12-0168—Calvert Cliffs 3 Nuclear Project, LLC & UniStar Nuclear Operating Services, LLC (Calvert Cliffs Nuclear Power Plant, Unit 3), Petition for Review of LBP-12-19

AGENCY: Nuclear Regulatory Commission.

ACTION: Request for written comment on requirements related to foreign ownership, control, or domination of commercial nuclear power plants.

SUMMARY: The U.S. Nuclear Regulatory Commission (NRC) is conducting an assessment, and is seeking stakeholder views, on issues relating to foreign ownership, control, or domination (FOCD) of commercial nuclear power plants. The results and conclusions of this assessment, including any recommendations on any proposed modifications to guidance or practice on FOCD that may be warranted, will be provided in a voting paper for Commission review and approval.

DATES: Submit comments by August 2, 2013. Comments received after this date will be considered if it is practical to do so, but the NRC staff is able to ensure consideration only for comments received on or before this date.

ADDRESSES: You may access information and comment submissions related to this document, which the NRC possesses and are publically available, by searching on http://www.regulations.gov under Docket ID NRC-2013-0107. You may submit comments by any of the following methods:

• Federal Rulemaking Web site: Go to http://www.regulations.gov and search for Docket ID nrc-2013-0107. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

For additional direction on accessing information and submitting comments, see “Accessing Information and Submitting Comments” in the SUPPLEMENTARY INFORMATION section of this document.

FOR FURTHER INFORMATION CONTACT: Jo Ann Simpson, Office of Nuclear Reactor Regulation, U.S. Nuclear Regulatory Commission, Washington, DC 20555-0001; telephone: 301-415-8388; email: JoAnn.Simpson@.nrc.gov; or Anneliese Simmons, Office of Nuclear Reactor Regulation, U.S. Nuclear Regulatory Commission, Washington, DC 20555-0001; telephone: 301-415-2791; email: Anneliese.Simmons@nrc.gov.

SUPPLEMENTARY INFORMATION:

I. Accessing Information and Submitting Comments

A. Accessing Information

Please refer to Docket ID NRC-2013-0107 when contacting the NRC about the availability of information regarding this document. You may access information related to this document by any of the following methods:

• Federal Rulemaking Web Site: Go to http://www.regulations.gov and search for Docket ID NRC-2013-0107.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The Commission issued SRM-12-0168 is available electronically under ADAMS Accession No. ML10370A150.

• NRC's PDR: You may examine and purchase copies of public documents at the NRC's PDR, Room O1-F21, One White Flint North, 11555 Rockville Pike, Rockville, Maryland 20852.

B. Submitting Comments

Please include Docket ID NRC-2013-0107 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

During recent years, there have been a number of licensing actions submitted to the NRC for review where issues related to FOCD existed. One cause is likely due to the increased globalization of economic activity and associated added complexity of the corporate arrangements. In response, the NRC's review of FOCD issues have become more numerous and detailed. Sections 103d. and 104d. of the Atomic Energy Act of 1954, as amended, (AEA), provide that the NRC may not issue a license to a corporation or other entity if the Commission knows (or has reason to believe) that it is owned, controlled, or dominated by an alien, a foreign corporation or a foreign government. Moreover, the NRC may not, in any event, issue a license to any person within the United States if, in the opinion of the Commission, the issue of a license to such person would be inimical to the common defense and security or to the health and safety of the public.

The Commission's regulation under Section 50.38 of Title 10 of the Code of Federal Regulations (10 CFR) implements this statutory prohibition, providing that any person who is a citizen, national, or agent of a foreign country, or any corporation, or other entity which the Commission knows or has reason to believe is owned, controlled, or dominated by an alien, a foreign corporation, or an foreign government, shall be ineligible to apply for and obtain a license. (emphasis supplied).

With respect to combined license applications, the Commission's regulations under 10 CFR 52.75(a) further state any person (except one excluded by § 50.38 of the Commission's regulations) may file an application for a combined license for a nuclear power facility with the Director, Office of New Reactors or Director, Office of Nuclear Reactor Regulation, as appropriate.

On March 11, 2013, in SRM-12-0168, “Calvert Cliffs 3 Nuclear Project, LLC & UniStar Nuclear Operating Services, LLC (Calvert Cliffs Nuclear Power Plant, Unit 3), Docket No. 52-016-COL, Petition for Review of LBP-12-19,” the Commission directed the staff to provide a fresh assessment on issues relating to FOCD including recommendations on any proposed modifications to guidance or practice on FOCD that may be warranted.

Specifically, the Commission is looking for comments on the limitation on FOCD as contained in Section 103d. of the AEA and the potential to satisfy statutory objectives through an integrated review of foreign ownership, control, or domination issues involving up to and including 100 percent indirect foreign ownership; criteria for assessing proposed plans or actions to negate direct or indirect foreign ownership or foreign financing of more than 50 percent but less than 100 percent, and the adequacy of guidance on these criteria; the availability of alternative methods such as license conditions for resolving—following issuance of a combined license—FOCD; and the agency's interpretation of the statutory meaning of “ownership,” and how that definition applies in various contexts, such as total or partial foreign ownership of a licensee's parent, co-owners, or owners who are licensed to own but not to possess or operate a facility.

It is the desire of the NRC to receive comments of a high quality from all stakeholders on issues relating to FOCD. The 60-day comment period is reasonable and is not anticipated to affect NRC deadlines. The allotted time will allow adequate time for the NRC to review comments, and organize and conduct a Category 3 Public Meeting on June 19, 2013, to facilitate additional stakeholder engagement and input.

For the Nuclear Regulatory Commission.
Dated at Rockville, Maryland, this 21st day of May 2013.
Christopher Regan,
Chief, Financial Analysis and International Projects Branch, Division of Inspection and Regional Support, Office of Nuclear Reactor Regulation.

[FR Doc. 2013-12596 Filed 5-31-13; 8:45 am]

BILLING CODE 7590-01-P